DEPARTMENT OF TRANSPORTATION

Pipeline and Hazardous Materials Safety Administration

Office of Hazardous Materials Safety; Notice of Application for Special Permits

AGENCY: Pipeline and Hazardous Materials Safety Administration (PHMSA), DOT.

ACTION: List of applications for special permits.

SUMMARY: In accordance with the procedures governing the application for, and the processing of, special permits from the Department of Transportation's Hazardous Material Regulations (49 CFR 107, Subpart B), notice is hereby given that the Office of Hazardous Materials Safety has received the application described herein. Each mode of transportation for which a particular special permit is requested is indicated by a number in the “Nature of special permits thereof” portion of the table below as follows: 1—Motor vehicle, 2—Rail freight, 3—Cargo vessel, 4—Cargo aircraft only, 5—Passenger-carrying aircraft.

DATES: Comments must be received on or before July 21, 2008.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, SE., Washington, DC or at http://dms.dot.gov. This notice of receipt of applications for special permits is published in accordance with Part 107 of the Federal hazardous materials transportation law (49 U.S.C. 5117(b); 49 CFR 1.53(b)).

Issued in Washington, DC, on June 9, 2008.
Delmer F. Billings,
Director, Office of Hazardous Materials, Special Permits and Approvals.

Application No. | Docket No. | Applicant | Regulation(s) affected | Nature of special permits thereof
NEW SPECIAL PERMITS
14706-N |  | Toyota Motor Sales, U.S.A., Inc. Torrance, CA | 49 CFR 172.200, 172.504, and 173.25 | To authorize the one-way transportation in commerce of certain Class 8 and 9 hazardous materials not subject to shipping papers, placarding and marking and labeling of overpacks when moving Toyota's warehouse approximately 15 miles by motor vehicle. (mode 1).
14710-N |  | Brenner Tank, LLC, Fond Du Lac, WI | 49 CFR 178.345-2 | To authorize the manufacture, marking, sale and use of certain DOT 400 series specification cargo tanks using titanium instead of the specified metal. (mode 1)
14711-N |  | Department of Defense, Albuquerque, NM | 49 CFR 173.62 | To authorize the transportation in commerce of certain approved desensitized explosives in bulk packaging by motor vehicle. (mode 1)
14712-N |  | Clean Earth Systems, Inc., Tampa, FL | 49 CFR 173.173(b)(2); 173.242 | To authorize the manufacture, marking, sale and use of UN 11G fiberboard intermediate bulk containers for use as the outer packaging for certain Class 3 waste paints and waste paint related material. (mode 1)
14717-N |  | Amvac Chemical Corporation, Axis, AL | 49 CFR 173.241 and 173.243 | To authorize the transportation in commerce of plastic receptacles containing the residue of certain pesticide products in a non-DOT specification closed bulk bins. (modes 1, 2)
14718-N |  | Catalina Cylinders, Cliff Impact Division, Hampton, VA | 49 CFR 178.65(i) | To authorize the manufacture, marking, sale and use of a cylinder conforming in all respects to a DOT Specification 39 except for a procedure in completing the marking requirement. (modes 1, 2, 3,4)

[FR Doc. E8-13769 Filed 6-18-08; 8:45 am]

BILLING CODE 4909-60-M